DEPARTMENT OF COMMERCE

Foreign-Trade Zones Board

[S-72-2014]

Foreign-Trade Zone 119—Minneapolis-St. Paul, Minnesota; Application for Subzone; The Coleman Company, Inc.; Sauk Rapids, Minnesota

An application has been submitted to the Foreign-Trade Zones Board (the Board) by the Greater Metropolitan Area Foreign Trade Zone Commission, grantee of FTZ 119, requesting subzone status for the facility of The Coleman Company, Inc., located in Sauk Rapids, Minnesota. The application was submitted pursuant to the provisions of the Foreign-Trade Zones Act, as amended (19 U.S.C. 81a-81u), and the regulations of the Board (15 CFR part 400). It was formally docketed on June 9, 2014.

The proposed subzone (24.66 acres) is located at 1100 Stearns Drive in Sauk Rapids (Benton County). A notification of proposed production activity has been docketed (B-31-2014). The proposed subzone would be subject to the existing activation limit of FTZ 119.

In accordance with the Board's regulations, Camille Evans of the FTZ Staff is designated examiner to review the application and make recommendations to the Executive Secretary.

Public comment is invited from interested parties. Submissions shall be addressed to the Board's Executive Secretary at the address below. The closing period for their receipt is July 23, 2014. Rebuttal comments in response to material submitted during the foregoing period may be submitted during the subsequent 15-day period to August 7, 2014.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: June 9, 2014.
Andrew McGilvray,
Executive Secretary.

[FR Doc. 2014-13897 Filed 6-12-14; 8:45 am]

BILLING CODE 3510-DS-P